DEPARTMENT OF ENERGY

Federal Energy Regulatory Commission

[Docket No. ER03-1079-003, et al.]

Aquila, Inc., et al.; Electric Rate and Corporate Filings

December 28, 2004.

The following filings have been made with the Commission. The filings are listed in ascending order within each docket classification.

1. Aquila, Inc.; Aquila Long Term, Inc.; Aquila Merchant Services, Inc.; Aquila Piatt County L.L.C.; MEP Clarksdale Power, LLC; MEP Flora Power, LLC; MEP Investments, LLC; MEP Pleasant Hill Operating, LLC; Pleasant Hill Marketing, LLC

[Docket Nos. ER03-1079-003, ER02-47-003, ER95-216-023, ER03-725-003, ER02-309-003, ER02-1016-001, ER99-2322-003, ER01-905-003, ER00-1851-003]

Take notice that on December 21, 2004, Aquila, Inc., Aquila Long Term, Inc., Aquila Merchant Services, Inc., Aquila Piatt County L.L.C., MEP Clarksdale Power, LLC, MEP Flora Power, LLC, MEP Investments, LLC, MEP Pleasant Hill Operating, LLC, and Pleasant Hill Marketing, LLC (collectively, Applicants) submitted for filing a joint triennial market power analysis pursuant to Acadia Power Partners LLC, et al., 107 FERC ¶ 61,168 (2004). In addition, Applicants request the Commission to synchronize their future triennial market power analyses.

Comment Date: 5 p.m. Eastern Time on January 11, 2005.

2. FirstEnergy Service Corporation

[Docket No. ER03-1276-003]

Take notice that on December 21, 2004, FirstEnergy Serice Company submitted a compliance filing pursuant to the Commission's Letter Order issued October 1, 2004, in Docket No. ER03-1276-003.

Comment Date: 5 p.m. Eastern Time on January 11, 2005.

3. Wolverine Power Supply Cooperative, Inc.

[Docket Nos. ER04-132-003, EL04-38-004]

Take notice that on December 21, 2004, Wolverine Power Supply Cooperative, Inc. (Wolverine Power), submitted a compliance filing pursuant to the Commission's order issued November 22, 2004, in Docket Nos. ER04-132-000 and EL04-38-000, 109 FERC ¶ 61,191.

Wolverine Power states that a copy of this filing has been served upon each person designated on the official service list.

Comment Date: 5 p.m. Eastern Time on January 11, 2005.

4. Delmarva Power & Light Company

[Docket No. ER04-509-002, ER04-1250-001]

Take notice that on December 21, 2004, Delaware Municipal Electric Corporation, Inc. submitted a filing providing information requested by the Commission in the deficiency letter issued November 23, 2004, in Docket Nos. ER04-509-000, 001 and ER04-1250-000 regarding the September 24, 2004, filing of Delmarva Power & Light Company.

Comment Date: 5 p.m. Eastern Time on January 11, 2005.

5. Midwest Independent Transmission System Operator, Inc.

[Docket No. ER04-961-003]

Take notice that, on December 20, 2004, the Midwest Independent Transmission System Operator, Inc. (Midwest ISO) submitted Substitute Tariff Sheets to amend the compliance filing submitted on November 1, 2004 in Docket No. ER04-961-002.

The Midwest ISO states that it has electronically served a copy of this filing, with attachments, upon all Midwest ISO Members, Member representatives of Transmission Owners and Non-Transmission Owners, the Midwest ISO Advisory Committee participants, as well as all state commissions within the region. In addition, Midwest ISO states that the filing has been electronically posted on the Midwest ISO's Web site at http://www.midwestiso.org under the heading “Filings to FERC” for other interested parties in this matter. The Midwest ISO also states that it will provide hard copies to any interested parties upon request.

Comment Date: 5 p.m. Eastern Time on January 10, 2005.

6. Virginia Electric and Power Company

[Docket No. ER05-187-001]

Take notice that on December 21, 2004, Virginia Electric and Power Company (Dominion) tendered for filing an amendment to its November 5, 2004, filing of an amended Appendix E-2 for the service agreement under its open access transmission tariff, FERC Electric Tariff Second Revised Volume No. 5. Dominion requests that the Commission allow the amendment to become effective on November 5, 2004.

Dominion states that copies of this filing were served upon the North Carolina Electric Membership Corporation, the North Carolina Utilities Commission and the Virginia State Corporation Commission.

Comment Date: 5 p.m. Eastern Time on January 11, 2005.

7. El Segundo Power, LLC

[Docket No. ER05-363-000]

Take notice that on December 21, 2004, El Segundo Power, LLC (El Segundo) submitted for filing its Rate Schedule No. 2, a Reliability Must-Run Service Agreement (RMR Agreement) between El Segundo and the California Independent System Operator Corporation (CAISO), as well as a letter agreement dated December 20, 2004, between ESP and the CAISO setting forth additional terms and conditions that affect the RMR Agreement.

El Segundo states that copies of the filing were served upon the CAISO, Southern California Edison Company, the California Electricity Oversight Board, and the California Public Utilities Commission.

Comment Date: 5 p.m. Eastern Time on January 11, 2005.

8. Elk River Windfarm LLC

[Docket No. ER05-365-000]

Take notice that on December 21, 2004, Elk River Windfarm LLC (Elk River) filed an application for authorization to sell energy, capacity and ancillary services at market-based rates. Elk River states it is developing and will own and operate a wind energy facility in Butler County, Kansas. Elk River requests that the Commission grant waivers and blanket approvals provided to applicants that receive authority for market-based rates. El River requests an effective date of May 5, 2005.

Comment Date: 5 p.m. Eastern Time on January 11, 2005.

9. Sierra Pacific Power Company

[Docket No. ER05-366-000]

Take notice that on December 21, 2004, Sierra Pacific Power Company tendered for filing an executed Standard Large Generator Interconnection Agreement between Sierra Pacific Power Company and Barrick Goldstrike Mines Inc. Sierra Pacific Power Company requests an effective date of July 1, 2005.

Comment Date: 5 p.m. Eastern Time on January 11, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E4-3944 Filed 1-4-05; 8:45 am]

BILLING CODE 6717-01-P